DEPARTMENT OF VETERANS AFFAIRS

President's Task Force To Improve Health Care Delivery for Our Nation's Veterans, Notice of Meeting

The Department of Veterans Affairs (VA) gives notice under Public Law 92-463 that a meeting of the President's Task Force to Improve Health Care Delivery for Our Nation's Veterans is scheduled for Wednesday, May 8, 2002, beginning at 9:00 a.m. and adjourning at 4 p.m. and Thursday, May 9, 2002, beginning at 8:30 a.m. and adjourning at 11:30 a.m. The May 8 session will be held in the Horizon Ballroom of the Ronald Reagan Building International Trade Center, 1300 Pennsylvania Avenue, NW, Washington, DC. The May 9 session will be held in Room 230, Department of Veterans Affairs, 810 Vermont Avenue NW, Washington, DC. Both sessions are open to the general public.

The purpose of the President's Task Force to Improve Health Care Delivery for Our Nation's Veterans is to:

(a) Identify ways to improve benefits and services for Department of Veterans Affairs (VA) beneficiaries and Department of Defense (DoD) military retirees who are also eligible for benefits from VA, through better coordination of the activities of the two departments;

(b) Identify opportunities to remove barriers that impede VA and DoD coordination, including budgeting processes, timely billing, cost accounting, information technology, and reimbursement; and

(c) Identify opportunities through partnership between VA and DoD, to maximize the use of resources and infrastructures, including buildings, information technology and data sharing systems, procurement of supplies, equipment and services.

On the morning of May 8, the Vision Work Group and the Information Management/Information Technology Work Group will brief the Committee. During the afternoon session, the Leadership Work Group, Benefits Work Group and Acquisition and Procurement Work Group will brief the Committee. On the morning of May 9, the Pharmaceuticals Work Group, Facilities Work Group, and Resources and Budgeting Work Group will brief the Committee.

Interested parties can provide written comments to Mr. Dan Amon, Communications Director, President's Task Force to Improve Health Care Delivery to Our Nation's Veterans, 1401 Wilson Boulevard, 4th Floor, Arlington, Virginia 22209.

Dated: April 22, 2002.
By Direction of the Secretary:
Nora E. Egan,
Committee Management Officer.

[FR Doc. 02-10421 Filed 4-26-02; 8:45 am]

BILLING CODE 8320-01-M